FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011117-040.

Title: United States/Australasia Discussion Agreement.

Parties: A.P. Moller-Maersk A/S and Safmarine Container Lines NV; ANL Singapore Pte Ltd.; Australia-New Zealand Direct Line; CMA-CGM, S.A.; Compagnie Maritime Marfret S.A.; CP Ships USA, LLC; Hamburg-Süd; and Wallenius Wilhelmsen Logistics AS.

Filing Party: Wayne R. Rohde, Esq.; Sher & Blackwell LLP; 1850 M Street, NW.; Suite 900; Washington, DC 20036.

Synopsis: The amendment deletes FESCO Ocean Management Limited as a party to the agreement.

Agreement No.: 011268-021.

Title: New Zealand/United States Discussion Agreement.

Parties: New Zealand/United States Container Lines Association; Hamburg-Süd; Australia-New Zealand Direct Line; A.P. Moller-Maersk A/S; and CP Ships USA, LLC.

Filing Party: Wayne R. Rohde, Esq.; Sher & Blackwell LLP; 1850 M Street, NW.; Suite 900; Washington, DC 20036.

Synopsis: The amendment deletes FESCO Ocean Management Limited as a party to the agreement.

Agreement No.: 011275-020.

Title: Australia/United States Discussion Agreement.

Parties: A.P. Moller-Maersk A/S; Australia-New Zealand Direct Line; Hamburg-Süd; CP Ships USA, LLC; P&O Nedlloyd Limited; and Safmarine Container Lines NV.

Filing Party: Wayne R. Rohde, Esq.; Sher & Blackwell LLP; 1850 M Street, NW.; Suite 900; Washington, DC 20036.

Synopsis: The amendment deletes FESCO Ocean Management Limited, NYKLauritzenCool AB and Seatrade Group N.V. as parties to the agreement.

Agreement No.: 011435-012.

Title: APL/HLCL Space Charter Agreement.

Parties: American President Lines, Ltd.; APL Co. Pte Ltd.; and Hapag-Lloyd Container Linie GmbH.

Filing Party: Wayne R. Rohde, Esq.; Sher & Blackwell LLP; 1850 M Street, NW.; Suite 900; Washington, DC 20036.

Synopsis: The amendment would delete CP Ships as a party to the agreement, add Hapag-Lloyd Container Linie GmbH, and restate the agreement.

Agreement No.: 011574-015.

Title: Pacific Islands Discussion Agreement.

Parties: Hamburg-Süd; Hapag-Lloyd Container Linie GmbH; Polynesia Line Ltd.; Australia-New Zealand Direct Line, a division of CP Ships (UK) Ltd.; CMA CGM SA; and Compagnie Maritime Marfret, SA.

Filing Party: Wayne R. Rohde, Esq.; Sher & Blackwell, LLP; 1850 M Street, NW.; Suite 900; Washington, DC 20036.

Synopsis: The amendment deletes FESCO Ocean Management Limited as a party to the agreement.

Agreement No.: 011648-011.

Title: APL/HLCL Space Charter and Sailing Agreement.

Parties: American President Lines, Ltd./APL Co. Pte Ltd. (“APL”); and Hapag-Lloyd Container Linie GmbH.

Filing Party: Wayne R. Rohde, Esq.; Sher & Blackwell LLP; 1850 M Street, NW.; Suite 900; Washington, D.C. 20036.

Synopsis: The amendment would delete CP Ships as a party to the agreement, add Hapag-Lloyd Container Linie GmbH, and restate the agreement.

Agreement No.: 011666-002.

Title: West Coast North America/Pacific Islands Vessel Sharing Agreement.

Parties: Hamburg-Süd and Polynesia Line Ltd.

Filing Party: Wayne R. Rohde, Esq.; Sher & Blackwell LLP; 1850 M Street, NW.; Suite 900; Washington, DC 20036.

Synopsis: The amendment deletes FESCO Ocean Management Limited as a party to the agreement.

Agreement No.: 011965.

Title: Matson/Sinolines Space Charter Agreement.

Parties: Matson Navigation Company, Inc.; and Sinotrans Container Lines Co., Ltd.

Filing Party: Robert B. Yoshitomi, Esq.; Nixon Peabody LLP; 2040 Main Street; Suite 850; Irvine, CA 92614.

Synopsis: The agreement authorizes Matson to charter to Sinolines, and Sinolines is authorized to purchase from Matson, space for the movement of loaded containers in the trade between ports in China and ports in the State of California on an “as needed, as available” basis.

Agreement No.: 201171.

Title: Marine Terminal Lease between Broward County and Sherwood Lumber Corp.

Parties: Broward County and Sherwood Lumber Corp.

Filing Party: Candace J. McCann; Broward County Board of County Commissioners; Office of the County Attorney; 1850 Eller Drive; Suite 502; Fort Lauderdale, FL 33316.

Synopsis: The agreement is a marine terminal lease agreement assigning space formerly held by Gulf Atlantic Lumber Sales, Inc. to Sherwood Lumber Corp. The term of the agreement runs through June 30, 2007.

By Order of the Federal Maritime Commission.
Dated: July 7, 2006.
Karen V. Gregory,
Assistant Secretary.

[FR Doc. E6-10930 Filed 7-11-06; 8:45 am]

BILLING CODE 6730-01-P